DEPARTMENT OF THE INTERIOR

Fish and Wildlife Service

50 CFR Part 17

RIN 1018-AU31

Endangered and Threatened Wildlife and Plants; Opening of the Comment Period for the Proposed and Final Designation of Critical Habitat for the Klamath River and Columbia River Populations of Bull Trout (Salvelinus confluentus); Clarification

AGENCY: Fish and Wildlife Service, Interior.

ACTION: Final rule; opening of comment period; clarification.

SUMMARY: We are publishing additional information pertaining to a recent Federal Register document that opened a comment period on a proposed and final rule to designate critical habitat for the Klamath River and Columbia River populations of bull trout. This information provides clarification to that document. We hope that this additional information will benefit the public in understanding our actions in regard to the bull trout critical habitat designation.

DATES: We will accept public comments on the proposed and final rules until June 24, 2005.

ADDRESSES: Please see our May 25, 2005, Federal Register document (70 FR 29998) for information regarding how and where to submit comments.

FOR FURTHER INFORMATION CONTACT: John Young, 503-231-6194.

SUPPLEMENTARY INFORMATION:

Background

We published a document in the May 25, 2005, Federal Register (70 FR 29998) that announced the opening of a public comment period on the proposed and final designations of critical habitat for the Klamath River and Columbia River populations of bull trout. The proposed rule published on November 29, 2002, at 67 FR 71236, and the final rule published on October 6, 2004, at 69 FR 59996. The following information provides clarification to the May 25, 2005, document.

On April 28, 2005, the government filed a motion for voluntary remand. If the court grants this motion, the October 6, 2004, final critical habitat designation will be remanded to the Service for a new decision. The voluntary remand would have the effect of reinstating the November 29, 2002, proposed rule. In a declaration supporting the motion for voluntary remand, the Service informed the court that in mid-May the Service would reopen the comment period on the November 29, 2002, proposed rule and seek comment on the exclusions made in the October 6, 2004, final rule. Further, the Service indicated that the culmination of the administrative process initiated with the opening of the comment period would be conditional upon the court's ruling. In other words, the Service will only be making a new final determination on the November 2002 proposed rule to the extent that this is consistent with the court's ruling on the government's motion.

Subsequently, we published the May 25, 2005, document that announced the opening of a public comment period. Should the court deny the government's motion, the Service will still collect and analyze all comments received as a result of the May 25, 2005, notice for use in any future rulemaking regarding bull trout critical habitat, and comply with any court order issued. The Service published the notice reopening the comment period before the court ruled on the government's motion to ensure that a new final determination could be made as quickly as possible.

Authority

The authority for this action is the Endangered Species Act of 1973 (16 U.S.C. 1531 et seq.).

Dated: May 31, 2005.
Craig Manson,
Assistant Secretary for Fish and Wildlife and Parks.

[FR Doc. 05-11166 Filed 6-3-05; 8:45 am]

BILLING CODE 4310-55-P